DEPARTMENT OF AGRICULTURE

Forest Service

Special Use Permits for Outfitter and Guide Operations on the Lower Rogue and Lower Illinois Rivers, Siskiyou National Forest, Curry County, OR

Correction

In notice document 03-22491 beginning on page 52562 in the issue of Thursday, September 4, 2003, make the following corrections:

1. On page 52563, in the third column, in the third line, “wild” should read, “Wild”.

2. On the same page, in the same column, in the seventh line, “rogue” should read, “Rogue”.

3. On page 52564, in the first column, in the first full paragraph, in the first line, “get” should read, “eight”.

4. On the same page, in the same column, in the same paragraph, in the second line, “operating the wild Section who” should read, “operating in the Wild Section who were”.

5. On the same page, in the same column, in the same paragraph, in the seventh line, “autohrize” should read, “authorize”.

6. On the same page, in the same column, in the second full paragraph, in the 10th line from the bottom, “cumulative” should read, “cumulatively.”.

7. On the same page, in the same column, in the last paragraph, in the third line, “guest” should read, “guests”.

[FR Doc. C3-22491 Filed 9-25-03; 8:45 am]

BILLING CODE 1505-01-D